DEPARTMENT OF HEALTH AND HUMAN SERVICES

Health Resources and Services Administration

Agency Information Collection Activities: Proposed Collection: Public Comment Request; Information Collection Request Title: The Alliance for Innovation on Maternal Health Biannual Survey, OMB No. 0915-xxxx—New

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than February 5, 2024.

ADDRESSES: Submit your comments to paperwork@hrsa.gov or mail the HRSA Information Collection Clearance Officer, Room 14N39, 5600 Fishers Lane, Rockville, Maryland 20857.

FOR FURTHER INFORMATION CONTACT: To request more information on the proposed project or to obtain a copy of the data collection plans and draft instruments, email paperwork@hrsa.gov or call Joella Roland, the HRSA Information Collection Clearance Officer, at (301) 443-3983.

SUPPLEMENTARY INFORMATION: When submitting comments or requesting information, please include the ICR title for reference.

Information Collection Request Title: The Alliance for Innovation on Maternal Health Biannual Survey, OMB No. 0915-xxxx—New.

Abstract: The Alliance for Innovation on Maternal Health (AIM) program is administered by HRSA and authorized by 42 U.S.C. 254c-21 (Public Health Service Act, title III section 330O), as added by the Consolidated Appropriations Act, 2022 (Pub. L. 117-103).

The AIM program supports the identification, development, implementation, and dissemination of maternal (patient) safety bundles to promote safe care for every U.S. birth and assist with addressing the complex problem of high maternal mortality and severe maternal morbidity rates within the U.S. The mission of AIM is to support best practices that make birth safer, improve the quality of maternal health care and outcomes, and save lives. Maternal patient safety bundles address topics commonly associated with health complications or risks related to prenatal, labor and delivery, and postpartum care.

The AIM program consists of two components: The AIM Capacity program and the AIM Technical Assistance (TA) Center. The AIM Capacity awards began in fiscal year 2023 and directly fund 28 States and jurisdictions (including U.S. Territories and the District of Columbia) to implement AIM maternal patient safety bundles. The second component, the AIM TA Center, is funded through a cooperative agreement to provide TA to all 50 States, the District of Columbia, jurisdictions, U.S. Territories, Tribal communities, and birthing facilities who participate in the AIM program. The TA Center builds data capacity for participating entities to track progress on bundle implementation and support improvement of data collection.

The funding amount for the AIM program was increased in fiscal year 2023, which allowed HRSA to directly fund States and Territories to support AIM bundle implementation. Previously, HRSA supported AIM through one cooperative agreement to develop maternal patient safety bundles, provide TA on bundle implementation, and enroll States and Territories in the program. The shift to directly fund States and jurisdictions for the work makes the collection of information about the reach of the program, participation by birthing facilities, and TA needs necessary. The AIM Biannual Survey will be administered to AIM State Teams (the State-or jurisdiction-level entity leading AIM implementation) twice a year in all States and jurisdictions enrolled in AIM. Respondents will include AIM State Teams that receive HRSA funding through the AIM Capacity program, as well as AIM State Teams that do not receive HRSA funding to implement AIM, to gauge the full reach of the program.

Need and Proposed Use of the Information: The information will be used by the HRSA program team to understand and report on AIM program reach and potential growth regarding participating birthing facilities and patient safety bundles implemented, inform development of resources and types of TA offered, and develop program targets. In addition, information on the number of participating birthing facilities and patient safety bundles being implemented is shared on the HRSA and ACOG AIM websites. The biannual survey is the only place this information is collected.

Likely Respondents: Respondents are AIM State Teams in all States and jurisdictions enrolled in AIM, including AIM Capacity award recipients and AIM State Teams that do not receive direct funding from HRSA.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours:

Form name | Number of respondents | Number of responses per respondent | Total responses | Average burden per response (in hours) | Total burden hours
AIM Biannual Survey | 52 | 1 per survey; 2 surveys per year | 104 | 1 | 104
Total | 52 | 1 per survey; 2 surveys per year | 104 | 1 | 104

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Maria G. Button,
Director, Executive Secretariat.

[FR Doc. 2023-26902 Filed 12-6-23; 8:45 am]

BILLING CODE 4165-15-P